DEPARTMENT OF THE INTERIOR

Fish and Wildlife Service

[FWS-R8-R-2015-N189; FXRS282108E8PD0-167-F2013227943]

South Bay Salt Pond Restoration Project, Phase 2; Don Edwards San Francisco Bay National Wildlife Refuge; Draft Environmental Impact Statement/Environmental Impact Report

AGENCY: Fish and Wildlife Service, Interior.

ACTION: Reopening of the public comment period.

SUMMARY: We, the U.S. Fish and Wildlife Service (USFWS), in coordination with the California State Coastal Conservancy, announce the reopening of the public comment period for the Draft Environmental Impact Statement/Environmental Impact Report (DEIS/EIR) for Phase 2 of the South Bay Salt Pond (SBSP) Restoration Project at the Don Edwards San Francisco Bay National Wildlife Refuge (Refuge) in Alameda, Santa Clara, and San Mateo Counties, California. The DEIS/EIR, which we prepared in accordance with the National Environmental Policy Act of 1969 (NEPA), describes and analyzes the alternatives identified for Phase 2 of the South Bay Salt Pond Restoration Project.

DATES: We will accept comments received or postmarked on or before October 30, 2015.

ADDRESSES: Document Availability: You may obtain copies of the document in the following places:

• Internet: http://www.southbayrestoration.org/planning/phase2/.

• In-Person:

○ San Francisco Bay National Wildlife Refuge Complex Headquarters, 1 Marshlands Road, Fremont, CA 94555.

○ The following libraries:

Alviso Branch Library, 5050 N. First St., San Jose, CA 95002.

Biblioteca Latino America, 921 South First St., San Jose, CA 95110.

California State University Library, 25800 Carlos Bee Blvd., Hayward, CA 94542.

Fremont Main Library, 2400 Stevenson Blvd., Fremont, CA 94538.

Menlo Park Library, 800 Alma St., Menlo Park, CA 94025.

Mountain View Library, 585 Franklin St., Mountain View, CA 94041.

Rinconada Library, 1213 Newell Rd., Palo Alto, CA 94303.

King Library, 150 E San Fernando St., San Jose, CA 95112.

Redwood City Main Library, 1044 Middlefield Road, Redwood City, CA 94063.

San Mateo County East Palo Alto Library, 2415 University Ave., East Palo Alto, CA 94303.

Santa Clara County Milpitas Library, 160 N Main St., Milpitas, CA 95035.

Santa Clara Public Library, 2635 Homestead Rd., Santa Clara, CA 95051.

Sunnyvale Public Library, 665 W Olive Ave., Sunnyvale, CA 94086.

Natural Resources Library, U.S. Department of the Interior, 1849 C Street NW., Washington, DC 20240-0001.

For how to view comments on the draft EIS from the Environmental Protection Agency (EPA), or for information on EPA's role in the EIS process, see EPA's Role in the EIS Process under SUPPLEMENTARY INFORMATION.

Submitting Comments: You may submit written comments by one of the following methods:

• Electronically: Send comments via email to phase2comments@southbayrestoration.org. Your correspondence should indicate which pond complex, alternative, or issue your comments pertain to.

• By Hard Copy: Send written comments to Anne Morkill, Project Leader, Don Edwards San Francisco Bay National Wildlife Refuge, 1 Marshlands Road, Fremont, CA 94555, or to Brenda Buxton, Project Manager, State Coastal Conservancy, 1330 Broadway, 13th Floor, Oakland, CA 94612.

• By Fax: You may also send comments by facsimile to 510-792-5828.

To have your name added to our mailing list, contact Ariel Ambruster (see DATES).

FOR FURTHER INFORMATION CONTACT: Anne Morkill, Project Leader, USFWS, 510-792-0222.

SUPPLEMENTARY INFORMATION: In coordination with the California State Coastal Conservancy, we publish this notice to announce the reopening of the comment period for the DEIS/EIR for Phase 2 of the SBSP Restoration Project at the Don Edwards San Francisco Bay Refuge which originally ran from July 22, 2015, to September 22, 2015 (80 FR 43456). The DEIS/EIR, which we prepared in accordance with the National Environmental Policy Act of 1969 (NEPA), describes and analyzes the alternatives identified for Phase 2 of the SBSP Restoration Project.

EPA's Role in the EIS Process

The EPA is charged under section 309 of the CAA (42 U.S.C. 7401 et seq.) to review all Federal agencies' environmental impact statements (EISs) and to comment on the adequacy and the acceptability of the environmental impacts of proposed actions in the EISs.

EPA also serves as the repository (EIS database) for EISs prepared by Federal agencies and provides notice of their availability in the Federal Register. The Environmental Impact Statement (EIS) Database provides information about EISs prepared by Federal agencies, as well as EPA's comments concerning the EISs. All EISs are filed with EPA, which publishes a notice of availability on Fridays in the Federal Register. You may search for EPA comments on the EIS, along with the EIS itself, at https://cdxnodengn.epa.gov/cdx-enepa-public/action/eis/search. The DEIS/DEIR is also available at the locations under ADDRESSES.

NEPA Compliance

We are conducting environmental review in accordance with the requirements of NEPA, as amended (42 U.S.C. 4321 et seq.), its implementing regulations (40 CFR parts 1500-1508), other applicable regulations, and our procedures for compliance with those regulations. The DEIS/EIR discusses the direct, indirect, and cumulative impacts of the alternatives on biological resources, cultural resources, water quality, and other environmental resources. Measures to minimize adverse environmental effects are identified and discussed in the DEIS/EIR.

Public Comments

We request that you send comments only by one of the methods described in ADDRESSES. If you submit a comment that includes personal identifying information, you may request at the top of your document that we withhold this information from public review. However, we cannot guarantee that we will be able to do so.

Authority

We provide this notice in accordance with the requirements of NEPA (42 U.S.C. 4321 et seq.) and its implementing regulations (40 CFR 1506.6).

Alexandra Pitts,
Acting, Regional Director, Pacific Southwest Region.

[FR Doc. 2015-27256 Filed 10-26-15; 8:45 am]

BILLING CODE 4333-15-P